DEPARTMENT OF THE TREASURY

Alcohol and Tobacco Tax and Trade Bureau

27 CFR Parts 19 and 30

[Docket No. TTB-2008-0004; T.D. TTB-92a; Re: T.D. TTB-92]

RIN 1513-AA23

Revision of Distilled Spirits Plant Regulations; Corrections

AGENCY: Alcohol and Tobacco Tax and Trade Bureau, Treasury.

ACTION: Final rule; Treasury decision; correction.

SUMMARY: The Alcohol and Tobacco Tax and Trade Bureau published a final rule revising its distilled spirits plant regulations in the Federal Register of February 16, 2011 (76 FR 9080). That final rule contained several typographical and textual errors. This document corrects those errors.

DATES: Effective Date: April 18, 2011.

FOR FURTHER INFORMATION CONTACT: Christopher M. Thiemann, Regulations and Rulings Division, Alcohol and Tobacco Tax and Trade Bureau, 1310 G Street, NW., Suite 200E, Washington, DC 20220; telephone 202-453-2265.

SUPPLEMENTARY INFORMATION: The Alcohol and Tobacco Tax and Trade Bureau (TTB) recently published a final rule completely revising its distilled spirits plant regulations as contained in 27 CFR part 19. TTB published this final rule as T.D. TTB-92 in the Federal Register of February 16, 2011 (see 76 FR 9080). The final rule also amended cross-references to part 19 found in 27 CFR parts 1, 17, 24, 26, 28, 30 and 31. T.D. TTB-92 is effective on April 18, 2011.

After its publication, TTB found that T.D. TTB-92 contained several typographical and textual errors in the revised regulations in part 19 and a textual error in an amendatory instruction for part 31. This document corrects those errors.

Specifically, typographical errors are corrected in T.D. TTB-92 in the part 19 table of contents listing for § 19.26 (“Alternate” rather than “lternate”), in the “Authority” citation at the beginning of the part (“5121-5124” rather than “5121, 5122-5124”), and in the section heading for § 19.603 (“§ 19.603” rather than “§ 10.603”). In § 19.1, in the definition of “Lot identification number,” the cross-reference to “27 CFR 19.485” is corrected to read “§ 19.485” for consistency with other internal part 19 cross references. Also in § 19.1, the definitions of “Kind” and “Package identification number” are corrected to use the new part 19 section numbers contained in T.D. TTB-92 rather than section numbers from the version of part 19 being replaced.

In § 19.454(a), TTB is correcting “SDA” to read “denatured spirits” in order to clarify that denatured spirits, including specially denatured spirits and completely denatured alcohol, withdrawn free of tax under 27 CFR part 20 may be returned to bonded premises in accordance with § 19.454. In § 19.454(e), TTB is correcting “SDA” to read “specially denatured spirits” in order to clarify that specially denatured spirits, including specially denatured alcohol and specially denatured rum, withdrawn free of tax for export under 27 CFR part 28 may be returned to bonded premises in accordance with § 19.454.

Also, as described in T.D. TTB-92, TTB intends to require serial numbers on certain records to either commence with the number “1” each calendar or fiscal year or otherwise be unique and not repeated. These numbering options are incorporated into the recordkeeping requirements contained in § 19.618, Gauge record, and § 19.620, Transfer record—consignor's responsibility. However, the option to use a unique, non-repeated number was inadvertently left out of § 19.599, Bottling and packing records. TTB is therefore correcting § 19.599(b) to conform to the similar recordkeeping requirements found in §§ 19.618 and 19.620.

In addition, the amendatory instruction updating a cross-reference to part 19 in 27 CFR part 30 was incorrectly phrased. When referring to the existing text of § 30.31(d), the amendatory instructions in T.D. TTB-92 should have used the phrase “27 CFR 19.383” rather than merely “§ 19.383.”

Corrections

In the final rule document numbered FR Doc. 2011-1956 beginning on page 9080 in the Federal Register issue of Wednesday, February 16, 2011, make the following corrections:

1. On page 9090, in the third column, in the part 19 table of contents, the listing “19.26 lternate methods or procedures.” is corrected to read “19.26 Alternate methods or procedures.”.

2. On page 9094, in the second column, in the authority citation for 27 CFR part 19, in the fourth line, the number phrase “5121, 5122-5124” is corrected to read “5121-5124”.

§ 19.1 [Corrected]

3. On page 9095, in the third column, in the definition of “Kind,” the cross-reference to “§ 19.597” is corrected to read “§ 19.487”.

4. On page 9096, in the first column, in the definition of “Lot identification number,” the cross-reference to “27 CFR 19.485” is corrected to read “§ 19.485”.

5. On page 9096, in the first column, in the definition of “Package identification number,” the cross-reference to “27 CFR 19.595” is corrected to read “§ 19.490”.

§ 19.454 [Corrected]

6. On page 9140, in the first column of the table (titled “Type of product”), in paragraph (a), the sentence “SDA withdrawn free of tax under part 20 of this chapter” is corrected to read “Denatured spirits withdrawn free of tax under part 20 of this chapter”.

7. On page 9140, in the first column of the table (titled “Type of product”), in paragraph (e), the sentence “SDA withdrawn free of tax for export under part 28 of this chapter” is corrected to read “Specially denatured spirits withdrawn free of tax for export under part 28 of this chapter”.

§ 19.599 [Corrected]

8. On page 9152, in the second column, in § 19.599, in paragraph (b), the text “Serial number of the record (beginning with “1” at the start of each calendar or fiscal year)” is corrected to read “Serial number of the record (which must commence with “1” at the start of each calendar or fiscal year, or be a unique identifying number that is not repeated)”.

§ 19.603 [Corrected]

9. On page 9153, in the first column, the section heading “§ 10.603, Liquor bottle records” is corrected to read “§ 19.603, Liquor bottle records”.

§ 30.31 [Corrected]

10. On page 9171, in the third column, in paragraph 16, in the amendatory instructions for § 30.31, the phrase “the reference to `§ 19.383' ” is corrected to read “the reference to `27 CFR 19.383' of this chapter”.

Dated: April 5, 2011.
John J. Manfreda,
Administrator.

[FR Doc. 2011-8528 Filed 4-8-11; 8:45 am]

BILLING CODE 4810-31-P